DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of March 21, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: October 31, 2016.
Roy E. Wright,
Deputy Associate Administrator for Insurance and Mitigation, Department of Homeland Security, Federal Emergency Management Agency.

I. Watershed-Based Studies

Community | Community map repository address
Lower Missouri-Moreau Watershed
Howard County, Missouri and Incorporated Areas
Docket No.: FEMA-B-1602
City of Franklin | City Hall, 410 Crews Avenue, Franklin, MO 65250.
City of Glasgow | City Hall, 100 Market Street, Glasgow, MO 65254.
City of New Franklin | City Hall, 130 East Broadway, New Franklin, MO 65274.
Unincorporated Areas of Howard County | County Courthouse, 1 Courthouse Square, Fayette, MO 65248.
Crosswicks-Neshaminy Watershed
Bucks County, Pennsylvania (All Jurisdictions)
Docket No.: FEMA-B-1539
Borough of Bristol | Municipal Building, 250 Pond Street, Bristol, PA 19007.
Borough of Chalfont | Borough Hall, 40 North Main Street, Chalfont, PA 18914.
Borough of Doylestown | Borough Hall, 57 West Court Street, Doylestown, PA 18901.
Borough of New Britain | Municipal Building, 45 Keeley Avenue, New Britain, PA 18901.
Borough of Newtown | Pickering, Corts & Summerson, 642 Newtown-Yardley Road, Suite 300, Newtown, PA 18940.
Borough of Tullytown | Municipal Building, 500 Main Street, Tullytown, PA 19007.
Township of Bensalem | Township Building, 2400 Byberry Road, Bensalem, PA 19020.
Township of Bristol | Township Municipal Complex, 2501 Bath Road, Bristol, PA 19007.
Township of Buckingham | Township Zoning Office, 4613 Hughesian Drive, Buckingham, PA 18912.
Township of Doylestown | Township Administration Building, 425 Wells Road, Doylestown, PA 18901.
Township of Falls | Falls Township Building, 188 Lincoln Highway, Suite 100, Fairless Hills, PA 19030.
Township of Middletown | Middletown Township Municipal Center, 3 Municipal Way, Langhorne, PA 19047.
Township of New Britain | New Britain Township Municipal Building, 207 Park Avenue, Chalfont, PA 18914.
Township of Newtown | Township Building, 100 Municipal Drive, Newtown, PA 18940.
Township of Northampton | Northampton Township Administrative Building, 55 Township Road, Richboro, PA 18954.

II. Non-Watershed-Based Studies:

Community | Community map repository address
Contra Costa County, California and Incorporated Areas
Docket No.: FEMA-B-1540
City of Antioch | Engineering and Development Services Division, 200 H Street, Antioch, CA 94509.
City of Brentwood | Community Development, Building Division, 150 City Park Way, Brentwood, CA 94513.
City of Clayton | City Engineer, 1470 Civic Court, Suite 320, Concord, CA 94520.
City of Concord | Floodplain Administrator/City Engineer, 1950 Parkside Drive MS/52, Concord, CA 94519.
City of Hercules | Engineering Department, 111 Civic Drive, Hercules, CA 94547.
City of Lafayette | Planning Office, Suite 210, 3675 Mount Diablo Boulevard, Lafayette, CA 94549.
City of Martinez | Engineering Department, 525 Henrietta Street, Martinez, CA 94553.
City of Oakley | Public Works and Engineering, 3231 Main Street, Oakley, CA 94561.
City of Pinole | Public Works Department, 2131 Pear Street, Pinole, CA 94564.
City of Pittsburg | Engineering Record Section, City Hall, 65 Civic Avenue, Pittsburg, CA 94565.
City of Richmond | Engineering Division, 450 Civic Center Plaza, Richmond, CA 94804.
City of San Pablo | Planning/Zoning, 13831 San Pablo Avenue, San Pablo, CA 94806.
City of Walnut Creek | Public Works Department, Engineering Division, 1666 North Main Street, Walnut Creek, CA 94596.
Town of Danville | Engineering Department, 510 La Gonda Way, Danville, CA 94526.
Unincorporated Areas of Contra Costa County | Public Works Department, 255 Glacier Drive, Martinez, CA 94553.
Bolivar County, Mississippi and Incorporated Areas
Docket No.: FEMA-B-1345
City of Cleveland | Community Development Department, 215 North Bayou Road, Cleveland, MS 38732.
City of Mound Bayou | City Hall, 106 Green Avenue, Mound Bayou, MS 38762.
City of Rosedale | City Hall, 304 Court Street, Rosedale, MS 38769.
City of Shaw | City Hall, 101 Faison Street, Shaw, MS 38773.
City of Shelby | City Hall, 305 3rd Street, Shelby, MS 38774.
Town of Alligator | Town Hall, 13 Lake Street, Alligator, MS 38720.
Town of Benoit | Town Hall, 114 West Preston Street, Benoit, MS 38725.
Town of Beulah | Town Hall, 205 South Front Street, Beulah, MS 38726.
Town of Boyle | Town Hall, 111 T.M. Jones Highway, Boyle, MS 38730.
Town of Duncan | Town Hall, 204 West Park South, Duncan, MS 38740.
Town of Gunnison | Town Hall, 404 Main Street, Gunnison, MS 38746.
Town of Merigold | Town Hall, 107 South Front Street, Merigold, MS 38759.
Town of Pace | Town Hall, 333 Jenny Washington Street, Pace, MS 38764.
Town of Renova | Town Hall, 5 2nd Street, Renova, MS 38732.
Town of Winstonville | Town Hall, 101 Osley Avenue, Winstonville, MS 38781.
Unincorporated Areas of Bolivar County | Bolivar County Administrator Office, 200 South Court Street, Cleveland, MS 38732.
Berks County, Pennsylvania (All Jurisdictions)
Docket No.: FEMA-B-1546
Borough of Bernville | Borough Hall, 6602 Bernville Road, Bernville, PA 19506.
Township of Jefferson | Jefferson Township Office Building, 5 Solly Lane, Bernville, PA 19506.
Township of Penn | Penn Township Municipal Building, 840 North Garfield Road, Bernville, PA 19506.
Warren County, Pennsylvania (All Jurisdictions)
Docket No.: FEMA-B-1543
Borough of Bear Lake | Borough of Bear Lake, Warren County Building, Henry R. Rouse Annex, 100 Dillon Drive, Youngsville, PA 16371.
Borough of Clarendon | Borough Building, 15 North Main Street, Clarendon, PA 16313.
Borough of Sugar Grove | Borough of Sugar Grove, Warren County Courthouse Office of Planning and Zoning, 204 4th Avenue, Warren, PA 16365.
Borough of Tidioute | Borough Maintenance Garage, 63 Grant Street, Tidioute, PA 16351.
Borough of Youngsville | Borough Building, 40 Railroad Street, Youngsville, PA 16371.
City of Warren | City Municipal Building, 318 West 3rd Avenue, Warren, PA 16365.
Township of Brokenstraw | Brokenstraw Township Building, 770 Rouse Avenue, Youngsville, PA 16371.
Township of Cherry Grove | Cherry Grove Fire Hall and Township Office, 6039 Cherry Grove Road, Clarendon, PA 16313.
Township of Columbus | Township Building, 44 North Street, Columbus, PA 16405.
Township of Conewango | Conewango Township Building, 4 Fireman Street, Warren, PA 16365.
Township of Deerfield | Deerfield Township Building, 4638 Morrison Run Road, Tidioute, PA 16351.
Township of Eldred | Eldred Township Building, 2915 Newton Road, Pittsfield, PA 16340.
Township of Elk | Elk Township Office, 3794 Cole Hill Road, Suite 1, Russell, PA 16345.
Township of Farmington | Farmington Township Office, 596 Fairbanks Road, Russell, PA 16345.
Township of Freehold | Freehold Township Building, 139 Lottsville Niobe Road, Bear Lake, PA 16402.
Township of Glade | Glade Township Municipal Building, 1285 Cobham Park Road, Warren, PA 16365.
Township of Limestone | Limestone Township Municipal Building, 16 Hill Drive, Tidioute, PA 16351.
Township of Mead | Mead Township Building, 119 Mead Boulevard, Clarendon, PA 16313.
Township of Pine Grove | Pine Grove Township Hall, 306 East Street, Russell, PA 16345.
Township of Pittsfield | Township Municipal Building, 488 Dalrymple Street, Pittsfield, PA 16340.
Township of Pleasant | Pleasant Township Municipal Building, 8 Chari Lane, Warren, PA 16365.
Township of Sheffield | Township Office, 20 Leather Street, Sheffield, PA 16347.
Township of Southwest | Township of Southwest, Warren County Courthouse Office of Planning and Zoning, 204 4th Avenue, Warren, PA 16365.
Township of Spring Creek | Township Building, 3811 Old Route 77, Spring Creek, PA 16436.
Township of Sugar Grove | Township Building, 195 Creek Road, Sugar Grove, PA 16350.
Township of Triumph | Triumph Township Building, 10390 Youngsville Road, Grand Valley, PA 16420.
Township of Watson | Watson Township Community Building, 2011 Route 337, Tidioute, PA 16351.

[FR Doc. 2016-28343 Filed 11-23-16; 8:45 am]

BILLING CODE 9110-12-P